DEPARTMENT OF EDUCATION

The Historically Black College and University Capital Financing Advisory Board

AGENCY: U.S. Department of Education, Office of Postsecondary Education, The Historically Black College and University Capital Financing Advisory Board.

ACTION: Notice of an open meeting.

SUMMARY: This notice sets forth the date and proposed agenda of an upcoming open meeting of the Historically Black College and University Capital Financing Advisory Board (Board). The notice also describes the functions of the Board. Notice of this meeting is required by Section 10(a)(2) of the Federal Advisory Committee Act and is intended to notify the public of their opportunity to attend.

DATES: Monday, September 24, 2012.

Time: 10:00 a.m.-2:00 p.m.

ADDRESSES: U.S. Department of Education, Board Room, 80 F Street NW., Washington, DC 20001.

FOR FURTHER INFORMATION CONTACT: Donald E. Watson, Executive Director, Historically Black College and University Capital Financing (HBCU Capital Financing) Advisory Board, 1990 K Street NW., Room 6040, Washington, DC 20006; telephone: (202) 219-7037; fax: (202) 502-7852; email: donald.watson@ed.gov.

Individuals who use a telecommunications device for the deaf (TDD) may call the Federal Information Relay Service (FRS) at 1-800-877-8339, Monday through Friday between the hours of 8 a.m. and 8 p.m., Eastern Time.

SUPPLEMENTARY INFORMATION: The Board is authorized by Title III, Part D, Section 347, of the Higher Education Act of 1965, as amended in 1998 (20 U.S.C. 1066f). The Board is established within the Department of Education to provide advice and counsel to the Secretary and the Designated Bonding Authority as to the most effective and efficient means of implementing construction financing on Historically Black College and University (HBCU) campuses and to advise Congress regarding the progress made in implementing the program. Specifically, the Board provides advice as to the capital needs of HBCUs, how those needs can be met through the program, and what additional steps might be taken to improve the operation and implementation of the construction-financing program.

The purpose of this meeting is to review current program activities, to make administrative and legislative recommendations to the Secretary and the U.S. Congress addressing the capital financing issues of HBCUs, and to discuss additional steps in which the HBCU Capital Financing Program might improve its operation.

Individuals who will need accommodations for a disability in order to attend the meeting (e.g., interpreting services, assistance listening devices, or materials in alternative format) should notify Donald E. Watson at 202 219-7037, no later than Thursday, September 20, 2012. We will attempt to meet requests for accommodations after this date but cannot guarantee their availability. The meeting site is accessible to individuals with disabilities.

An opportunity for public comment is available on Monday, September 24, 2012, between 1:00 p.m. and 1:30 p.m. Each speaker will be allowed to speak for up to three minutes. Those members of the public interested in submitting written comments may do so by submitting them to the attention of Donald E. Watson, 1990 K Street NW., Room 6040, Washington DC, by Thursday September 20, 2012.

Records are kept of all Board proceedings and are available for public inspection at the Office of the Historically Black College and University Capital Financing Advisory Board, 1990 K Street NW., Room 6040, Washington, DC 20006, from the hours of 9:00 a.m. to 5:00 p.m., Eastern Time, Monday through Friday. Electronic Access to This Document: The official version of this document is the document published in the Federal Register. Free Internet access to the official edition of the Federal Register and the Code of Federal Regulations is available via the Federal Digital System at: www.gpo.gov/fdsys. At this site you can view this document, as well as all other documents of the U.S. Department of Education published in the Federal Register, in text or Adobe Portable Document Format (PDF). To use PDF, you must have Adobe Acrobat Reader, which is available free at this site.

You may also access documents of the Department published in the Federal Register by using the article search feature at: www.federalregister.gov. Specifically, through the advanced search feature at this site, you can limit your search to documents published by the Department.

David A. Bergeron,
Acting Assistant Secretary for Postsecondary Education.

[FR Doc. 2012-22603 Filed 9-12-12; 8:45 am]

BILLING CODE 4000-01-P